DEPARTMENT OF HEALTH AND HUMAN SERVICES

Centers for Disease Control and Prevention

Availability of Non Exclusive License: Hosting and Maintaining the Buy Quiet Web Tool and the Database of Noise Levels for Machinery and Power Tools

AGENCY: National Institute for Occupational Safety and Health (NIOSH) of the Centers for Disease Control and Prevention (CDC), Department of Health and Human Services (HHS).

ACTION: Notice.

SUMMARY: Pursuant to 29 U.S.C. 671, notice is given that the National Institute for Occupational Safety and Health (NIOSH) is soliciting proposals for entities and organizations to host and maintain the Buy Quiet Web Tool and the Database of Noise Levels for Machinery and Power Tools through a non-exclusive license. This web tool and database are intended to provide guidance regarding the Buy Quiet program and provide information on how to adopt a Buy Quiet program as well as provide information about machinery and equipment noise levels. It is the goal of these online resources to inform at-risk individuals and their organizations about occupational noise exposures and practical ways to reduce noise-induced hearing loss. NIOSH will grant a non-exclusive license for the maintenance and hosting of the web tools. The preferred qualifications of the grantee organization are detailed in the SUPPLEMENTARY INFORMATION section below.

DATES: Representatives of eligible organizations should submit expressions of interest no later than August 25, 2016.

ADDRESSES: Expressions of interest may be directed electronically to Bryan Beamer at zmy4@cdc.gov or mailed to National Institute for Occupational Safety and Health, Division of Applied Research and Technology, 1090 Tusculum Avenue, MS C-27, Cincinnati, OH 45226. Attention: Bryan Beamer.

FOR FURTHER INFORMATION CONTACT: Questions may be directed to Bryan Beamer, National Institute for Occupational Safety and Health, Division of Applied Research and Technology, 1090 Tusculum Ave., MS C-27, Cincinnati, OH 45226. Email: zmy4@cdc.gov.

SUPPLEMENTARY INFORMATION: NIOSH has developed the Buy Quiet Web Tool and the Database of Noise Levels for Machinery and Power Tools with the goal of reducing noise-induced hearing loss among the nation's workers by providing information and tools to facilitate, document, and track the progress of Buy Quiet programs. NIOSH is looking for one organization to host and maintain either one or both of the Buy Quiet Web Tool and the interactive Database of Noise Levels for Machinery and Power Tools. The grantee organization would ideally possess the following qualifications:

• Ability to promote the web tools with national reach;

• access to subject matter experts in information technologies related to Web-based database development and maintenance;

• access to subject matter experts in occupational noise mitigation;

• access to appropriate information technology hardware and software;

• ability to solicit, accept, vet and maintain noise level data from manufacturers for the Database of Noise Levels for Machinery and Power Tools;

• ability to solicit and maintain Buy Quiet program data for a variety of companies; and

• ability to host and maintain the web tools for a minimum period of 3 years from the date the tools are made available to the general public.

Furthermore, the organization is to make these tools available to the general public within 12 months of signing the license agreement.

Links to the NIOSH Buy Quiet Web site and the current NIOSH Power Tools Database can be found here:

• http://www.cdc.gov/niosh/topics/buyquiet/default.html—Buy Quiet Web site

• http://wwwn.cdc.gov/niosh-sound-vibration/—NIOSH Power Tools Database

Information Needed: Expressions of interest should outline the organization's ability to meet the preferred qualifications mentioned above and be no more than four pages in length.

Dated: July 5, 2016.
Frank Hearl,
Chief of Staff, National Institute for Occupational Safety and Health, Centers for Disease Control and Prevention.

[FR Doc. 2016-16267 Filed 7-8-16; 8:45 am]

BILLING CODE 4163-19-P